DEPARTMENT OF COMMERCE

International Trade Administration

[A-823-805]

Silicomanganese From Ukraine: Preliminary Results of Antidumping Duty Administrative Review; 2015-2016

AGENCY: Enforcement and Compliance, International Trade Administration, Department of Commerce.

SUMMARY: The Department of Commerce (the Department) is conducting an administrative review of the antidumping duty order on silicomanganese from Ukraine. The period of review (POR) is August 1, 2015, through July 31, 2016. The review covers two exporters of the subject merchandise, PJSC Zaporozhye Ferroalloy Plant (ZFP), and PJSC Nikopol Ferroalloy Plant (NFP). The Department preliminarily finds, based on the application of adverse facts available, that subject merchandise has been sold in the United States at prices below normal value during the POR.

DATES: Effective May 9, 2017.

FOR FURTHER INFORMATION CONTACT: Dmitry Vladimirov, AD/CVD Operations, Office I, Enforcement and Compliance, International Trade Administration, U.S. Department of Commerce, 1401 Constitution Avenue NW., Washington, DC 20230; telephone: (202) 482-0665.

SUPPLEMENTARY INFORMATION:

Scope of the Order

The product covered by this order is silicomanganese from Ukraine. Most silicomanganese is currently classifiable under subheading 7202.30.0000 of the Harmonized Tariff Schedule of the United States (HTSUS). Some silicomanganese may also currently be classifiable under HTSUS subheading 7202.99.8040. While the HTSUS subheadings are provided for convenience and customs purposes, the written description is dispositive. A full description of the scope of the order is contained in the Preliminary Decision Memorandum.¹

¹ See Memorandum from Gary Taverman, Associate Deputy Assistant Secretary for Antidumping and Countervailing Duty Operations, to Ronald K. Lorentzen, Acting Assistant Secretary for Enforcement and Compliance, entitled, “Decision Memorandum for the Preliminary Results in the Administrative Review of the Antidumping Duty Order on Silicomanganese from Ukraine; 2015-2016,” dated concurrently with, and hereby adopted by, this notice (Preliminary Decision Memorandum).

Methodology

The Department is conducting this review in accordance with section 751(a)(1)(B) of the Tariff Act of 1930, as amended (the Act). For a full description of the methodology underlying our conclusions, see the Preliminary Decision Memorandum. A list of the topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov, and it is available to all parties in the Central Records Unit, Room B8024 of the main Department of Commerce building. In addition, a complete version of the Preliminary Decision Memorandum is available at http://enforcement.trade.gov/frn/.

Adverse Facts Available

Because the mandatory respondents ZFP and NFP failed to provide requested information, we preliminarily determine to apply adverse facts available (AFA) to these companies, in accordance with sections 776(a) and (b) of the Act and 19 CFR 351.308. For further discussion, see the Preliminary Decision Memorandum.

Preliminary Results of Administrative Review

We preliminary determine that the following weighted-average dumping margins exist for the respondents for the period of August 1, 2015, through July 31, 2016:

Exporter/producer | Weighted- average dumping margin (percent)
PJSC Zaporozhye Ferroalloy Plant | 163.00
PJSC Nikopol Ferroalloy Plant | 163.00

Disclosure and Public Comment

Normally, the Department discloses to interested parties the calculations performed in connection with a preliminary results of review within five days of the date of publication of the notice of preliminary results of review in the Federal Register, in accordance with 19 CFR 351.224(b). However, because the Department preliminarily determined each respondent's weighted-average dumping margin based on AFA, as described in the Preliminary Decision Memorandum, there are no calculations to disclose. This meets our regulatory obligation.

Interested parties may submit case briefs no later than 30 days after the date of publication of this notice.² Rebuttal briefs, limited to issues raised in the case briefs, may be filed not later than five days after the date for filing case briefs.³ Parties who submit case briefs or rebuttal briefs in this proceeding are encouraged to submit with each argument: (1) A statement of the issue; (2) a brief summary of the argument; and (3) a table of authorities.⁴

² See 19 CFR 351.309(c)(ii).

³ See 19 CFR 351.309(d).

⁴ See 19 CFR 351.309(c)(2) and (d)(2).

Pursuant to 19 CFR 351.310(c), interested parties who wish to request a hearing, must submit a written request to the Assistant Secretary for Enforcement and Compliance. Requests should contain: (1) The party's name, address and telephone number; (2) the number of participants; and (3) a list of issues to be discussed. Issues raised in the hearing will be limited to those raised in the respective case briefs.

All documents submitted to the Department must normally be filed electronically via ACCESS. An electronically filed document must be received successfully in its entirety by the Department's electronic records system, ACCESS, by 5:00 p.m. Eastern Time within 30 days after the date of publication of this notice.⁵

⁵ See 19 CFR 351.310(c).

The Department will issue the final results of this administrative review, including the results of its analysis of the issues raised in any written briefs, not later than 120 days after the date of publication of this notice, pursuant to section 751(a)(3)(A) of the Act.

Assessment Rates

Upon issuance of the final results, the Department shall determine, and U.S. Customs and Border Protection (CBP) shall assess, antidumping duties on all appropriate entries covered by this review. For the final results, if we continue to rely on adverse facts available to establish ZFP's and NFP's weighted-average dumping margins we will instruct CBP to apply an ad valorem assessment rate of 163.00 percent to all entries of subject merchandise during the POR which were exported by ZFP and NFP. We intend to issue instructions to CBP 15 days after the publication date of the final results of this review.

Cash Deposit Requirements

The following cash deposit requirements will be effective upon publication of the notice of final results of administrative review for all shipments of the subject merchandise entered, or withdrawn from warehouse, for consumption on or after the publication date of the final results of this administrative review, as provided by section 751(a)(2)(C) of the Act: (1) The cash deposit rates for subject merchandise exported by ZFP and NFP will be equal to the weighted-average dumping margins established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other manufacturers or exporters will continue to be 163.00 percent, the all-others rate established in the investigation.⁶ These cash deposit requirements, when imposed, shall remain in effect until further notice.

⁶ See Suspension Agreement on Silicomanganese from Ukraine; Termination of Suspension Agreement and Notice of Antidumping Duty Order, 66 FR 43838 (August 21, 2001) (clarifying that the “Ukraine-Wide Rate” of 163 percent applies to all producers and exporters of subject silicomanganese not specifically listed in Notice of Final Determination of Sales at Less Than Fair Value: Silicomanganese from Ukraine, 59 FR 62711 (December 6, 1994) (where an AFA rate of 163 percent was applied to ZFP and NFP, the mandatory respondents in the original investigation).

Notification to Importers

This notice serves as a preliminary reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Notification to Interested Parties

The Department is issuing and publishing these preliminary results of review in accordance with sections 751(a)(1) and 777(i) of the Act.

Dated: May 3, 2017.
Ronald K. Lorentzen
Acting Assistant Secretary for Enforcement and Compliance.

Appendix

List of Topics Discussed in the Preliminary Decision Memorandum:

1. Summary

2. Background

3. Scope of the Order

4. Use of Facts Available and Adverse Inferences

5. Recommendation

[FR Doc. 2017-09354 Filed 5-8-17; 8:45 am]

BILLING CODE 3510-DS-P